DEPARTMENT OF JUSTICE

Notice of Lodging of Consent Decree in Comprehensive Environmental Response, Compensation and Liability Act Cost Recovery Action

In accordance with the Departmental Policy, 28 CFR 50.7, notice is hereby given that a Consent Decree in United States v. Wilbur S. Doyle and Lillie T. Doyle, Civil Action No. 4:00CV-00014 was lodged with the United States District Court for the Western District of Virginia on March 15, 2000. This Consent Decree resolves the United States' claims against Wilbur S. Doyle and Lillie T. Doyle (“Settling Defendants”) under Section 107(a) of the Comprehensive Environmental Response, Compensation and Liability Act (“CERCLA”), 42 U.S.C. 9607, for response costs incurred at the Doyle Wood Treating Superfund Site (“the Site”) located near Martinsville, Virginia. The Consent Decree requires the Settling Defendants to pay $50,000 in reimbursement of response costs relating to the Doyle Wood Treating Superfund Site removal action.

The Department of Justice will accept written comments on the proposal Consent Decree for thirty (30) days from the date of publication of this notice. Please address comments to the Assistant Attorney General, Environmental and Natural Resources Division, Department of Justice, P.O. Box 7611, Ben Franklin Station, Washington, DC 20044 and refer to United States v. Wilber S. Doyle and Lillie T. Doyle, DOJ #90-11-3-06367.

Copies of the proposed Consent Decree may be examined at the Office of the United States Attorney, Western District of Virginia, 105 Franklin Road, SW., Suite One, Roanoke, VA 24011; EPA Region III, 1650 Arch Street, Philadelphia, PA 19103; and at the U.S. Department of Justice, Consent Decree Library, 1425 New York Avenue, NW., Washington, DC 20005.

A copy of the proposed Consent Decree may be obtained by mail from U.S. Department of Justice, Consent Decree Library, P.O. Box 7611, Washington, DC 20044-7611. When requesting a copy of the proposed Consent Decree, please enclose a check to cover the twenty-five cents per page reproduction costs payable to the “Consent Decree Library” in the amount of $8.75, and please reference United States v. Wilbur S. Doyle and Lillie T. Doyle, DOJ No. 90-11-3-06367.

Joel M. Gross,
Chief, Environmental Enforcement Section, Environment and Natural Resources Division, Department of Justice.

[FR Doc. 00-7684 Filed 3-28-00; 8:45 am]

BILLING CODE 4410-15-M